DEPARTMENT OF THE TREASURY

Agency Information Collection Activities; Submission for OMB Review; Comment Request; RESTORE Act Grants

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before April 15, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Treasury Departmental Offices (DO)

Title: Application, Reports, and Recordkeeping for the Direct Component and the Centers of Excellence Research Grants Program under the RESTORE Act.

OMB Control Number: 1505-0250.

Type of Review: Revision of a currently approved collection.

Description: The Department of the Treasury administers the Direct Component and the Centers of Excellence Research Grants Program authorized under the RESTORE Act. Treasury awards grants for these two programs from proceeds in connection with administrative and civil penalties paid after July 6, 2012, under the Federal Water Pollution Control Act relating to the Deepwater Horizon Oil Spill, and deposited into the Gulf Coast Restoration Trust Fund. Direct Component grants are awarded to the States of Alabama, Louisiana, Mississippi, and Texas, and 23 Florida counties and 20 Louisiana parishes and Centers of Excellence grants are awarded to the States of Alabama, Florida, Louisiana, Mississippi, and Texas. The information collection for both programs identifies the eligible recipients; describes proposed activities; determines an appropriate amount of funding; ensures compliance with the RESTORE Act, Treasury's regulations, and Federal laws and policies on grants; tracks grantee progress; and reports on the effectiveness of the programs.

The revised application and reporting forms, supplemental information, and new questions from the Treasury Office of Civil Rights and Diversity concerning data collection for civil rights compliance and enforcement purposes under Title VI of the Civil Rights Act of 1964, and similar statutes applicable to Federal financial assistance, may be obtained on Treasury's RESTORE Act website at https://home.treasury.gov/policy-issues/financial-markets-financial-institutions-and-fiscal-service/restore-act.

Form: RESTORE Act Direct Component Application Narrative, RESTORE Act Centers of Excellence Research Grant Program Application Narrative, RESTORE Act Milestones Report, RESTORE Act Operational Self-Assessment.

Affected Public: State, Local, or Tribal Governments.

Estimated Number of Respondents: 52.

Frequency of Response: On Occasion.

Estimated Total Number of Annual Responses: 383.

Estimated Time per Response: 15 hours 53 minutes.

Estimated Total Annual Burden Hours: 6,086.

Authority: 44 U.S.C. 3501 et seq.

Dated: March 11, 2020.
Spencer W. Clark,
Treasury PRA Clearance Officer.

[FR Doc. 2020-05341 Filed 3-13-20; 8:45 am]

BILLING CODE 4810-25-P